DEPARTMENT OF THE INTERIOR

Bureau of Land Management

[WY-100-05-1310-DB]

Notice of Tour Rescheduling for the Pinedale Anticline Working Group

AGENCY: Bureau of Land Management, Interior.

ACTION: Notice of public tour.

SUMMARY: In accordance with the Federal Land Policy and Management Act (1976) and the Federal Advisory Committee Act (1972), the U.S. Department of the Interior, Bureau of Land Management (BLM) Pinedale Anticline Working Group (PAWG) will host a tour of the Pinedale Anticline Oil and Gas development field.

DATES: The June 20, 2006 tour has been cancelled and rescheduled for June 27, 2006 from 8 a.m. to 5 p.m.

ADDRESSES: The tour will start at the Shell Energy and Production Company Office in Pinedale, WY.

FOR FURTHER INFORMATION CONTACT: Matt Anderson, BLM/PAWG Liaison, Bureau of Land Management, Pinedale Field Office, 432 E. Mills St., P.O. Box 738, Pinedale, WY, 82941; 307-367-5328.

SUPPLEMENTARY INFORMATION: The Pinedale Anticline Working Group (PAWG) was authorized and established with release of the Record of Decision (ROD) for the Pinedale Anticline Oil and Gas Exploration and Development Project on July 27, 2000. The PAWG advises the BLM on the development and implementation of monitoring plans and adaptive management decisions as development of the Pinedale Anticline Natural Gas Field proceeds for the life of the field.

The tour is open to the public and will give an overview of the various aspects of natural gas activities on the anticline, including drilling and various monitoring and mitigation activities, such as reclamation and water resources. The exact schedule for the day is still being developed. Lunch, refreshments, and safety gear such as hardhats, etc., will be provided. Please RSVP due to a limited number of seats available for the tour.

Dated: June 15, 2006.
Dennis Stenger,
Field Office Manager.

[FR Doc. E6-9825 Filed 6-21-06; 8:45 am]

BILLING CODE 4310-22-P